DEPARTMENT OF HEALTH AND HUMAN SERVICES

Administration for Children and Families

Proposed Information Collection Activity; Comment Request

Proposed Projects:

Title: Evaluation of Independent Living Program Funded Under the Chafee Foster Care Independence Program.

OMB No.: New Collection.

Description: The Foster Care Independence Act of 1999 (Public Law 106-169) mandates evaluations of promising Independent Living Program administered by state and local child welfare agencies. The Administration for Children and Families proposes an evaluation of six Independent Living Program (ILP) over a five year period using a randomized experimental design. Youth aged 14-21 years receiving ILP services and their caseworkers will be interviewed at three points during the evaluation period. Program administrators, staff, and supplementary youth will also participate in interviews and focus groups conducted at each program site.

Respondents: Youth, caseworkers, and program administrators and staff.

Annual Burden Estimates
Instrument | Number of respondents | Number of responses per respondent | Average burden hours per response | Total burden hours
Youth | 1,200 | 1.5 | 1 | 1,800
Caseworker | 1,800 | 1.0 | 1 | 1,800
Program Admin/staff/extra youth | 600 | 1.0 | 1 | 600
Estimated Total Annual Burden Hours |  |  |  | 4,200

In compliance with the requirements of section 3506(c)(2)(A) of the Paperwork Reduction Act of 1995, the Administration for Children and Families is soliciting public comment on the specific aspects of the information collection described above. Copies of the proposed collection of information can be obtained and comments may be forwarded by writing to the Administration for Children and Families, Office of Administration, Office of Information Services, 370 L'Enfant Promenade, SW., Washington, DC 20447, Attn: ACF Reports Clearance Officer. All requests should be identified by the title of the information collection.

The Department specifically requests comments on: (a) Whether the proposed collection of information is necessary for the proper performance of the functions of the agency, including whether the information shall have practical utility; (b) the accuracy of the agency's estimate of the burden of the proposed collection of information; (c) the quality, utility, and clarity of the information to be collected; and (d) ways to minimize the burden of the collection of information on respondents, including through the use of automated collection techniques or other forms of information technology. Consideration will be given to comments and suggestions submitted within 60 days of this publication.

Dated: December 18, 2002.
Robert Sargis,
Reports Clearance Officer.

[FR Doc. 02-32368 Filed 12-23-02; 8:45 am]

BILLING CODE 4184-01-M